FEDERAL DEPOSIT INSURANCE CORPORATION

Agency Information Collection Activities: Revision of an Information Collection; Comment Request

Correction

In notice document 05-6121 beginning on page 15857 in the issue of Tuesday, March 29, 2005, make the following correction:

On page 15857, in the third column, under the DATES section, in the second line, “March 31, 2005” should read “May 31, 2005.”

[FR Doc. C5-6121 Filed 4-1-05; 8:45 am]

BILLING CODE 1505-01-D

DEPARTMENT OF HOUSING AND URBAN DEVELOPMENT

[Docket No. FR-4975-N-04]

Notice of Proposed Information Collection: Comment Request; Assisted Living Conversion Program (ALCP) and Emergency Capital Repair Program (ECRP)

Correction

In notice document 05-5825 beginning on page 15115 in the issue of Thursday, March 24, 2005, make the following correction:

On page 15115, in the third column, in the second line, under the title OMB Control Number if applicable: “2502-0541” should read “2502-0542”.

[FR Doc. C5-5825 Filed 4-1-05; 8:45 am]

BILLING CODE 1505-01-D